DEPARTMENT OF LABOR

Proposed Information Collection Request for Wagner-Peyser Act of 1933, as Amended by the Workforce Investment Act of 1998, Funded Public Labor Exchange and Veterans' Employment and Training Service Funded Labor Exchange (OMB Control Number 1205-0240): Comment Request for Extension Without Changes

AGENCY: Employment and Training Administration.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about the Wagner-Peyser Act of 1933, as amended by the Workforce Investment Act of 1998, Funded Public Labor Exchange and Veterans' Employment and Training Service Funded Labor Exchange.

A copy of the proposed information collection request (ICR) can be obtained by contacting the office listed below in the ADDRESSES section of this notice or by accessing: http://www.doleta.gov/OMBCN/OMBControlNumber.cfm.

DATES: Written comments must be submitted to the office listed in the ADDRESSES section below on or before September 30, 2008.

ADDRESSES: Submit written comments to Karen A. Staha, Performance and Technology Office, Employment and Training Administration, U.S. Department of Labor, 200 Constitution Avenue, NW., Room S-5206, Washington, DC 20210. Telephone number: 202-693-3420 (this is not a toll-free number). Fax: 202-693-3490. E-mail: ETAPerforms@dol.gov.

SUPPLEMENTARY INFORMATION:

I. Background

States submit quarterly performance data for the Wagner-Peyser funded public labor exchange services through ETA 9002 reports and for Veterans' Employment and Training Services (VETS)-funded labor exchange services through VETS 200 reports. The Employment and Training (ET) Handbook No. 406 contains the report forms and provides instructions for completing these reports. The ET Handbook No. 406 contains a total of eight reports (ETA 9002, A, B, C, D, E$; VETS 200 A, B, C). The ETA 9002 and VETS 200 reports collect data on individuals who receive core employment and workforce information services through the public labor exchange and VETS-funded labor exchange of the states' One-Stop delivery systems. The Employment and Training Administration is proposing similar changes to the reporting requirements for Workforce Investment Act Programs and the Trade Adjustment Assistance Act Programs. Please note that ETA will seek comments regarding extensions to these collections in separate Federal Register notices.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Agency: Employment and Training Administration.

Title: Wagner-Peyser Act/Jobs for Veterans reporting system (formerly the Labor-Exchange Reporting System (LERS)).

OMB Number: 1205-0240.

Affected Public: State, Local, or Tribal Government Cite/Forms: Wagner-Peyser Act (29 U.S.C. 49) and Jobs for Veterans Act (Pub. L. 107-288). ETA-9002 and VETS 200 reports.

Total Respondents: 54 states and territories.

Frequency: Quarterly.

Total Responses: 1,728 submissions annually—each state submits reports each quarter.

Estimated Total Burden Hours:

Form/activity | Total respondents | Frequency | Total responses | Average time per response | Total annual burden hours
ETA 9002 A | 54 | Quarterly | 216 | 346 | 74,641
ETA 9002 B | 54 | Quarterly | 216 | 346 | 74,641
ETA 9002 C | 54 | Quarterly | 216 | 346 | 74,641
ETA 9002 D | 54 | Quarterly | 216 | 346 | 74,641
ETA 9002 E | 54 | Quarterly | 216 | 21 | 4,536
VETS 200 A | 54 | Quarterly | 216 | 346 | 74,641
VETS 200 B | 54 | Quarterly | 216 | 346 | 74,641
VETS 200 C | 54 | Quarterly | 216 | 346 | 74,641
Totals | 54 |  | 1,728 |  | 527,020

Total Burden Cost (capital/startup): $1,825,200.

Total Burden Cost (operating/maintaining): $17,128,164.

Comments submitted in response to this comment request will be summarized and/or included in the request for Office of Management and Budget approval of the information collection request; they will also become a matter of public record.

Dated: July 25, 2008.
John R. Beverly,
Administrator, Office of Performance and Technology, Employment and Training Administration.

[FR Doc. E8-17649 Filed 7-31-08; 8:45 am]

BILLING CODE 4510-FN-P